DEPARTMENT OF COMMERCE

International Trade Administration

Export Trade Certificate of Review

ACTION: Notice of issuance of an amended Export Trade Certificate of Review, Application No. 91-A0002.

SUMMARY: The Department of Commerce has issued an amendment to the Export Trade Certificate of Review granted to Automotive Services Industry Association (“ASIA”) on March 1, 1994. Notice of issuance of the original Certificate was published in the Federal Register on March 14, 1994 (59 FR 11775).

FOR FURTHER INFORMATION CONTACT: Morton Schnabel, Director, Office of Export Trading Company Affairs, International Trade Administration, (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (1999).

The Office of Export Trading Company Affairs (“OETCA”) is issuing this notice pursuant to 15 CFR 325.6(b), which requires the Department of Commerce to publish a summary of the Certificate in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 91-00002 was originally issued to ASIA on March 1, 1994 (59 FR 11775, March 14, 1994). ASIA consolidated with the Automotive Parts and Accessories Association to form the Automotive Aftermarket Industry Association (“AAIA”).

The Export Trade Certificate of Review has been amended to:

1. Change the name of the Certificate holder cited in this paragraph to the new name cited in this paragraph in parenthesis as follows: Automotive Service Industry Association (Automotive Aftermarket Industry Association);

2. Change the listing of the “Member” cited in this paragraph to the new listing cited in this paragraph in parenthesis as follows: Triangle Auto Parts Co., Inc. (Triangle Auto Parts Co.); and

3. Delete the following companies as “Members” of the Certificate within the meaning of section 325.2(l) of the Regulations (15 CFR 325.2(1): Federal Mogul Corporation; A.E. Clevite, Inc.; JS Products, Inc.; KSG Industries, Inc.; Kwik-Way Manufacturing, Inc.; and Sealed Power Division of Sealed Power Technologies Limited Partnership.

Pursuant to 15 CFR 325.7, these amendments will be effective as of February 23, 2000, the date application was deemed submitted.

A copy of the amended Certificate will be kept in the International Trade Administration's Freedom of Information Records Inspection Facility, Room 4102, U.S. Department of Commerce, 14th Street and Constitution Avenue, N.W., Washington, D.C. 20230.

Dated: April 20, 2000.
Morton Schnabel,
Director, Office of Export Trading Company Affairs.

[FR Doc. 00-10375 Filed 4-25-00; 8:45 am]

BILLING CODE 3510-DR-P